DEPARTMENT OF HEALTH AND HUMAN SERVICES

Solicitation of Nomination for Appointment to the Advisory Committee on Minority Health

AGENCY: Office of Minority Health, Office of Public Health and Science, Office of the Secretary, Department of Health and Human Services.

ACTION: Notice.

Authority: 42 U.S.C. 300u-6, Section 1707 of the Public Health Service Act, as amended. The Advisory Committee is governed by provisions of Public Law 92-463, as amended (5 U.S.C. Appendix 2), which sets forth standards for the formation and use of advisory committees.

SUMMARY: The Department of Health and Human Service (HHS), Office of Public Health and Science (OPHS), is seeking nominations of qualified candidates to be considered for appointment as a member of the Advisory Committee on Minority Health (ACMH). In accordance with Public Law 105-392, the Committee provides advice to the Deputy Assistant Secretary for Minority Health, on the development of goals and specific program activities of the Office of Minority Health (OMH) designed to improve the health of racial and ethnic minority groups. Nominations of qualified candidates are being sought to fill current and impending vacant positions on the Committee.

DATES: Nominations for membership on the Committee must be received no later than 5 p.m. EST on October 20, 2010, at the address listed below.

ADDRESSES: All nominations should be mailed or delivered to Dr. Garth Graham, Deputy Assistant Secretary for Minority Health, Office of Minority Health, Office of Public Health and Science, Department of Health and Human Services, 1101 Wootton Parkway, Suite 600, Rockville, MD 20852.

FOR FURTHER INFORMATION CONTACT: Ms. Monica Baltimore, Executive Director, Advisory Committee on Minority Health, Office of Minority Health, Office of Public Health and Science, Department of Health and Human Services, 1101 Wootton Parkway, Suite 600, Rockville, MD 20852; Telephone: (240) 453-2882.

A copy of the Committee charter and list of the current membership can be obtained by contacting Ms. Baltimore or by accessing the Web site managed by OMH at http://www.minorityhealth.gov/acmh.

SUPPLEMENTARY INFORMATION: Pursuant to Public Law 105-392, the Secretary of Health and Human Services established the ACMH. The Committee shall provide advice to the Deputy Assistant Secretary for Minority Health in carrying out the duties stipulated under Public Law 105-392. This includes providing advice to improve the health of each racial and ethnic minority group and in the development of goals and specific activities of the OMH, which are:

(1) Establish short-range and long-range goals and objectives and coordinate all other activities within the Public Health Service that relate to disease prevention, health promotion, service delivery, and research concerning such individuals;

(2) Enter into interagency agreements with other agencies of the Public Health Service;

(3) Support research, demonstrations, and evaluations to test new and innovative models;

(4) Increase knowledge and understanding of health risk factors;

(5) Develop mechanisms that support better information dissemination, education, prevention, and service delivery to individuals from disadvantaged backgrounds, including individuals who are members of racial or ethnic minority groups;

(6) Ensure that the National Center for Health Statistics, within the Centers for Disease Control and Prevention, collects data on the health status of each minority group;

(7) With respect to individuals who lack proficiency in speaking the English language, enter into contracts with public and nonprofit private providers of primary health services for the purpose of increasing the access of these individuals to such services by developing and carrying out programs to provide bilingual or interpretive services;

(8) Support a national minority health resource center to carry out the following:

(a) Facilitate the exchange of information regarding matters relating to health information and health promotion, preventive health services, and education in appropriate use of health care;

(b) Facilitate access to such information;

(c) Assist in the analysis of issues and problems relating to such matters;

(d) Provide technical assistance with respect to the exchange of such information (including facilitating the development of materials for such technical assistance);

(9) Carry out programs to improve access to health care services for individuals with limited proficiency in speaking the English language. Activities under the preceding sentence shall include developing and evaluating model projects; and

(10) Advising in matters related to the development, implementation, and evaluation of health professions education in decreasing disparities in health care outcomes, including cultural competency as a method of eliminating health disparities.

Management and support services for the ACMH are provided by the OMH, which is a program office within the OPHS.

Nominations: The OPHS is requesting nominations for current and impending vacant positions on the ACMH. The Committee is composed of 12 voting members, in addition to non-voting ex officio members. This announcement is seeking nominations for voting members. Voting members of the Committee are appointed by the Secretary from individuals who are not officers or employees of the Federal Government and who have expertise regarding issues of minority health. To qualify for consideration of appointment to the Committee, an individual must possess demonstrated experience and expertise working on issues/matters impacting the health of racial and ethnic minority populations. The charter stipulates that the racial and ethnic minority groups shall be equally represented on the Committee membership. This means we are seeking candidates who can represent the health interest of Hispanics/Latino Americans; Blacks/African Americans; American Indians and Alaska Natives; and Asian Americans, Native Hawaiians, and/or other Pacific Islanders.

Mandatory Professional/Technical Qualifications: Nominees must meet all of the following mandatory qualifications to be eligible for consideration.

(1) Expertise in minority health and racial and ethnic health disparities.

(2) Expertise in developing or contributing to the development of health policies and/or programs. This may include experience in the analysis, evaluation, and interpretation of Federal health or regulatory policy.

(3) Involvement in national, regional, Tribal, and/or community efforts to improve minority health.

(4) Educational achievement, professional certification(s) in health-related field (behavioral health, public health, nursing, environmental health, nutrition, pharmacy, epidemiology, health administration, etc.), and professional experience that will support ability to give expert advice on issues related to improving minority health and eliminating racial and ethnic health disparities.

Desirable Qualifications: It is desired that the nominee have:

(1) Knowledge of national health policies and programs managed by the HHS.

(2) Job-related training, self-development, and outside professional activities which provides evidence of initiative, resourcefulness, and potential for effective performance.

Requirements for Nomination Submission: Nominations should be typewritten (one nomination per nominator). The following information should be included in the package of material submitted for each individual being nominated for consideration: (1) A letter of nomination that clearly states the name and affiliation of the nominee, the basis for the nomination (i.e., specific attributes which qualify the nominee for service in this capacity), and a statement that the nominee is willing to serve as a member of the Committee; (2) the nominator's name, address, and daytime telephone number, and the home and/or work address, telephone number, and e-mail address of the individual being nominated; (3) a current copy of the nominee's curriculum vitae, and (4) provide narrative responses to the mandatory professional/technical qualifications listed above in regard to the nominee's expertise. Federal employees should not be nominated for consideration of appointment to this Committee.

Individuals selected for appointment to the Committee shall be invited to serve four year terms. Committee members who are not officers or employees of the United States Government will receive a stipend for attending Committee meetings and conducting other business in the interest of the Committee, including per diem and reimbursement for travel expenses incurred.

The Department makes every effort to ensure that the membership of HHS Federal advisory committees is fairly balanced in terms of points of view represented and the committee's function. Every effort is made to ensure that a broad representation of geographic areas, females, ethnic and minority groups, and the disabled are given consideration for membership on HHS Federal advisory committees. Appointment to this Committee shall be made without discrimination on the basis of age, race, ethnicity, gender, sexual orientation, disability, and cultural, religious, or socioeconomic status. Nominations must state that the nominee is willing to serve as a member of ACMH and appears to have no conflict of interest that would preclude membership. An ethics review is conducted for each selected candidate. Therefore, individuals selected for nomination will be required to provide detailed information concerning such matters as financial holdings, consultancies, and research grants or contracts to permit evaluation of possible sources of conflict of interest.

Dated: July 8, 2010.
Garth N. Graham,
Deputy Assistant Secretary for Minority Health.

[FR Doc. 2010-17852 Filed 7-21-10; 8:45 am]

BILLING CODE 4150-29-P